DEPARTMENT OF STATE

[Public Notice 9074]

Notice of Public Comments on FY 2016 U.S. Refugee Admissions Program

The United States actively supports efforts to provide protection, assistance, and durable solutions for refugees. The U.S. Refugee Admissions Program (USRAP) is a critical component of the United States' overall refugee protection efforts around the globe. In Fiscal Year 2015, the President established the ceiling for refugee admissions into the United States at 70,000 refugees.

As we begin to prepare the FY 2016 U.S. Refugee Admission Program, we welcome the public's input. Information about the Program can be found at http://www.state.gov/g/prm/. Persons wishing to submit written comments on the appropriate size and scope of the FY 2016 U.S. Refugee Admissions Program should submit them by 5 p.m. on Thursday, May 14, 2015 via email to spruellda@state.gov or fax (202) 453-9393.

If you have questions about submitting written comments, please contact Delicia Spruell, PRM/Admissions Program Officer at spruellda@state.gov.

Dated: March 25, 2015.
Simon Henshaw,
Principal Deputy Assistant Secretary, Bureau of Population, Refugees, and Migration, Department of State.

[FR Doc. 2015-07460 Filed 3-31-15; 8:45 am]

BILLING CODE 4710-33-P